NEIGHBORHOOD REINVESTMENT CORPORATION

Sunshine Act Meetings; Audit Committee Meeting

TIME AND DATE: 4:00 p.m., Thursday, March 16, 2023.

PLACE: 1255 Union Street NE, Fifth Floor, Washington, DC 20002.

STATUS: Parts of this meeting will be open to the public. The rest of the meeting will be closed to the public.

MATTERS TO BE CONSIDERED: Audit Committee Meeting.

The General Counsel of the Corporation has certified that in his opinion, one or more of the exemptions set forth in the Government in the Sunshine Act, 5 U.S.C. 552b(c)(2) and (4) permit closure of the following portion(s) of this meeting:

• Executive Session

Agenda

I. Call to Order

Open Session—Discussion Items—Part I

II. FY22 External Audit—BDO

Open Session—Action Items—Part I

III. Sunshine Act Approval of Executive (Closed) Session

Executive (Closed) Session

IV. Executive Session with External Auditors—BDO

V. Executive Session with Chief Audit Executive

Open Session—Action Items—Part II

VI. Approval of FY22 External Audit

VII. Professional Services & Vendor Contracts $20k and Under

VIII. Housing Stability Counseling Program (HSCP) Grant Awards

IX. Internal Audit Status Reports

a. Internal Audit Reports Awaiting Management's Response

AP/ACH FY22

b. Internal Audit Performance Scorecard

c. Implementation of Internal Audit Recommendations

d. Officers' Report as of 2.6.2023

e. Dependent on Other IT Project Management (IAM)

X. Internal Audit Charter

XI. Adjournment

CONTACT PERSON FOR MORE INFORMATION: Lakeyia Thompson, Special Assistant, (202) 524-9940; Lthompson@nw.org.

Lakeyia Thompson,
Special Assistant.

[FR Doc. 2023-05185 Filed 3-9-23; 11:15 am]

BILLING CODE 7570-02-P